LEGAL SERVICES CORPORATION

Request for Comments—Poverty Data and LSC Funding Distribution

AGENCY: Legal Services Corporation.

ACTION: Request for comments.

SUMMARY: Since 1996, the Legal Services Corporation's annual appropriation has mandated that the Corporation distribute most of its appropriated funds to basic field programs for LSC-defined geographic areas so as to provide an equal figure per individual in poverty for each geographic area. The appropriation has further mandated that the number of individuals in poverty in each geographic area be determined by the Bureau of the Census “on the basis of the most recent decennial census.” The 2010 decennial census, however, did not collect poverty data for the 50 states, the District of Columbia or Puerto Rico, so “the most recent decennial census” will not provide a basis for determining how many people in poverty are within those jurisdictions. The LSC Board of Directors requests comments on a proposal by LSC's management to address this issue by making recommendations to the President and to Congress that: (1) The determination of the number of individuals in poverty in each geographic area be made by the Bureau of the Census, without any reference to the decennial census as the basis for that determination; (2) funding be reallocated among geographic areas every three years based on updated poverty population determinations by the Bureau of the Census; and (3) the first reallocation be phased in over two years, in Fiscal Year 2013 and Fiscal Year 2014.

DATES: Written comments will be accepted until September 8, 2011.

ADDRESSES: Written comments may be submitted by mail, fax or e-mail to Mark Freedman, Senior Assistant General Counsel, Legal Services Corporation, 3333 K St., NW., Washington, DC 20007; 202-295-1623 (phone); 202-337-6519 (fax); mfreedman@lsc.gov.

FOR FURTHER INFORMATION CONTACT: Mark Freedman, Senior Assistant General Counsel, Legal Services Corporation, 3333 K St., NW., Washington, DC 20007; 202-295-1623 (phone); 202-337-6519 (fax); mfreedman@lsc.gov.

SUPPLEMENTARY INFORMATION: The Legal Services Corporation (“LSC” or “Corporation”) was established by the United States Congress “for the purpose of providing financial support for legal assistance in noncriminal matters or proceedings to persons financially unable to afford such assistance.” 42 U.S.C. 2996b(a). LSC performs this function primarily through providing Federal funding to civil legal aid programs providing legal services to low-income persons throughout the United States and its possessions and territories in geographic areas determined by LSC. Since 1996, the Legal Services Corporation's annual appropriation has mandated that the Corporation distribute most of its appropriated funds to basic field programs for LSC-defined geographic areas so as to provide an equal figure per individual in poverty for each geographic area. The appropriation has further mandated that the number of individuals in poverty in each geographic area be determined by the Bureau of the Census “on the basis of the most recent decennial census.” (Certain exceptions apply for areas in which other adjusted population counts have been historically used.) Public Law 104-134, Title V, 501(a), 110 Stat. 1321, 1321-50 (1996) (incorporated by reference thereafter). Under that mandate, LSC has reallocated funding every ten years. The 2010 U.S. census, however, did not collect poverty population data for the 50 states, the District of Columbia or Puerto Rico. The Bureau of the Census has other data for making U.S. poverty population determinations in those areas.

LSC management has proposed to the LSC Board of Directors (“Board”) that LSC request an update to the statutory mandate in light of the elimination of poverty data from almost all of the 2010 census. LSC management has proposed that LSC make recommendations to the President and to Congress that: (1) The determination of the number of individuals in poverty in each geographic area be made by the Bureau of the Census, without any reference to the decennial census as the basis for that determination; (2) funding be reallocated among geographic areas every three years based on updated poverty population determinations by the Bureau of the Census; and (3) the first reallocation be phased in over two years, in Fiscal Year 2013 and Fiscal Year 2014.

LSC management presented this proposal to the Board's Operations and Regulations Committee (“Committee”) on July 20, 2011, which also received a presentation of recommendations from the National Legal Aid and Defender Association (“NLADA”). The Committee then presented management's proposal to the full board on July 21, 2011. The Board adopted the recommendation of management and the Committee that LSC publish management's proposal in the Federal Register for comment. The committee will meet to consider all comments received and make a recommendation to the Board for a final decision by early September of 2011.

LSC management's proposal “Management Recommendation on Funding Reallocation Issues” (July 13, 2011) and NLADA's recommendations can both be found at: http://www.lsc.gov/about/mattersforcomment.php.

LSC invites public comment on this issue. Interested parties may submit comments to LSC within 30 days.

Dated: August 3, 2011.
Victor M. Fortuno,
Vice President & General Counsel.

[FR Doc. 2011-20162 Filed 8-8-11; 8:45 am]

BILLING CODE 7050-01-P